ARCTIC RESEARCH COMMISSION

Sunshine Act Meeting: Arctic Research Commission

March 12, 2002.

Notice is hereby given that the U.S. Arctic Research Commission will hold its 64th Meeting in Cordova, AK on April 15, 2002. The Business Session open to the public will convene at 8:15 a.m. Monday, April 15, in the Agenda items include:

(1) Call to order and approval of the Agenda.

(2) Approval of the Minutes of the 63rd Meeting.

(3) Reports from Congressional Liaisons.

(4) Agency Reports.

The focus of the Meeting will be reports and updates on programs and research projects affecting the U.S. Arctic. Presentations include a review of the research needs for civil infrastructure in Alaska.

The Business Session will begin at 8:15 a.m. Monday, April 15. An Executive Session will follow adjournment of the Business Session.

Any person planning to attend this meeting who requires special accessibility features and/or auxiliary aids, such as sign language interpreters must inform the Commission in advance of those needs.

Contact Person for More Information: Dr. Garrett W. Brass, Executive Director, Arctic Research Commission, 703-525-0111 or TDD 703-306-0090.

Garrett W. Brass,
Executive Director.

[FR Doc. 02-8477 Filed 4-3-02; 4:48 pm]

BILLING CODE 7555-01-M